DEPARTMENT OF AGRICULTURE

Forest Service

Siuslaw Resource Advisory Committee

AGENCY: Forest Service, USDA.

ACTION: Notice of meeting.

SUMMARY: The Siuslaw Resource Advisory Committee will meet in Corvallis, OR. The purpose of the meeting is to determine how to spend Title II Payments to Counties Funds. The agenda includes: How to distribute the balance of Title II funds; kinds of projects the RAC would like to see from the Forest Service; how much Title II money should be used on private lands versus public lands; the cost of NEPA implementation for public projects; and a public forum.

DATES: The meeting will be held October 25, 2002, beginning at 9 a.m.

ADDRESSES: The meeting will be held in the Siuslaw River Room, at the Siuslaw National Forest Headquarters, at 4077 SW Research Way, Corvallis, OR.

FOR FURTHER INFORMATION CONTACT: Linda Stanley, Community Development Specialist, Siuslaw National Forest, 541/750-7210 or write to Forest Supervisor, Siuslaw National Forest, P.O. Box 1148, Corvallis, OR 97339.

SUPPLEMENTARY INFORMATION: A public input period will begin at 11:45 a.m. The meeting is expected to adjourn a few minutes after 12 noon.

Dated: September 26, 2002.
Gloria D. Brown,
Forest Supervisor.

[FR Doc. 02-25107 Filed 10-2-02; 8:45 am]

BILLING CODE 3410-11-M